DEPARTMENT OF TRANSPORTATION

Federal Aviation Administration

14 CFR Part 71

[Docket No. FAA-2020-0923; Airspace Docket No. 20-AEA-18]

RIN 2120-AA66

Proposed Amendment, Establishment, and Revocation of Multiple Air Traffic Service (ATS) Routes in the Vicinity of Henderson, WV

Correction

In proposed rule document 2020-24288 beginning on page 70093 in the issue of Wednesday, November 4, 2020, make the following correction:

▪ 1. On page 70095, in the third column, beginning in the 25th line, amendatory instruction 2 is corrected to read as follows:

§ 71.1 [Amended]

▪ 2. The incorporation by reference in 14 CFR 71.1 of FAA Order 7400.11E, Airspace Designations and Reporting Points, dated July 21, 2020, and effective September 15, 2020, is amended as follows:

Paragraph 2004 Jet Routes.

* * * * *

J-91 [Removed]

* * * * *

J-134 [Amended]

From Los Angeles, CA; Seal Beach, CA; Thermal, CA; Parker, CA; Drake, AZ; Gallup, NM; Cimarron, NM; Liberal, KS; Wichita, KS; Butler, MO; St Louis, MO; to Falmouth, KY.

* * * * *

Paragraph 2006 United States Area Navigation Routes.

* * * * *

Q-67 SMTTH, TN to Henderson, WV (HNN) [Amended]

SMTTH, TN WP (Lat. 35°54′41.57″ N, long. 084°00′19.74″ W)

TONIO, KY FIX (Lat. 37°15′15.20″ N, long. 083°01′47.53″ W)

Henderson, WV (HNN) DME (Lat. 38°45′14.85″ N, long. 082°01′34.20″ W)

* * * * *

Q-176 Cimarron, NM (CIM) to OTTTO, VA [New]

Cimarron, NM (CIM) VORTAC (Lat. 36°29′29.03″ N, long. 104°52′19.20″ W)

KENTO, NM WP (Lat. 36°44′19.10″ N, long. 103°05′57.13″ W)

Liberal, KS (LBL) VORTAC (Lat. 37°02′39.82″ N, long. 100°58′16.31″ W)

Wichita, KS (ICT) VORTAC (Lat. 37°44′42.92″ N, long. 097°35′01.79″ W)

Butler, MO (BUM) VORTAC (Lat. 38°16′19.49″ N, long. 094°29′17.74″ W)

St Louis, MO (STL) VORTAC (Lat. 38°51′38.48″ N, long. 090°28′56.52″ W)

GBEES, IN FIX (Lat. 38°41′54.72″ N, long. 085°10′13.03″ W)

BICKS, KY WP (Lat. 38°38′29.92″ N, long. 084°25′20.82″ W)

Henderson, WV (HNN) DME (Lat. 38°45′14.85″ N, long. 082°01′ 34.20″ W)

OTTTO, VA WP (Lat. 38°51′15.81″ N, long. 078°12′20.01″ W)

* * * * *

Paragraph 6010(a) Domestic VOR Federal Airways.

* * * * *

V-45 [Amended]

From New Bern, NC; Kinston, NC; Raleigh-Durham, NC; INT Raleigh-Durham 275° and Greensboro, NC, 105° radials; Greensboro; INT Greensboro 334° and Pulaski, VA, 147° radials; Pulaski; Bluefield, WV; to Charleston, WV. From Saginaw, MI; Alpena, MI; to Sault Ste Marie, MI.

* * * * *

V-119 [Amended]

From Parkersburg, WV; INT Parkersburg 067° and Indian Head, PA, 254° radials; Indian Head; to Clarion, PA.

* * * * *

V-174 [Removed]

* * * * *

[FR Doc. C1-2020-24288 Filed 11-6-20; 8:45 am]

BILLING CODE 1301-00-D